DEPARTMENT OF COMMERCE

International Trade Administration

[A-570-979]

Crystalline Silicon Photovoltaic Cells, Whether or Not Assembled Into Modules, From the People's Republic of China: Final Results of Antidumping Duty Administrative Review and Final Determination of No Shipments; 2020-2021

AGENCY: Enforcement and Compliance, International Trade Administration, Department of Commerce.

SUMMARY: The U.S. Department of Commerce (Commerce) has determined that companies in the People's Republic of China (China) sold subject merchandise at less than normal value (NV) during the period of review (POR), December 1, 2020, through November 30, 2021. Commerce has also determined that one company did not sell subject merchandise below NV and that 18 companies subject to this review are part of the China-wide entity.

DATES: Applicable July 7, 2023,

FOR FURTHER INFORMATION CONTACT: Dakota Potts or Paola Aleman Ordaz, AD/CVD Operations, Office IV, Enforcement and Compliance, International Trade Administration, Department of Commerce, 1401 Constitution Avenue NW, Washington, DC 20230; telephone: (202) 482-0223 or (202) 482-4031, respectively.

SUPPLEMENTARY INFORMATION:

Background

On January 6, 2023, Commerce published the Preliminary Results of this review in the Federal Register.¹ For details regarding the events that occurred since the Preliminary Results, see the Issues and Decision Memorandum.² Commerce conducted this administrative review in accordance with section 751 of the Tariff Act of 1930, as amended (the Act).

¹ See Crystalline Silicon Photovoltaic Cells, Whether or Not Assembled Into Modules, from the People's Republic of China: Preliminary Results of Antidumping Duty Administrative Review, Partial Rescission of Antidumping Administrative Review, and Preliminary Determination of No Shipments; 2020-2021, 88 FR 1046 (January 6, 2023) (Preliminary Results), and accompanying Preliminary Decision Memorandum (PDM).

² See Memorandum “Issues and Decision Memorandum for the Final Results of the 2020-2021 Administrative Review of the Antidumping Duty Order on Crystalline Silicon Photovoltaic Cells, Whether or Not Assembled into Modules, from the People's Republic of China” dated concurrently with, and adopted by, this notice (Issues Decision Memorandum).

Scope of the Order ³

³ See Crystalline Silicon Photovoltaic Cells, Whether or Not Assembled Into Modules, from the People's Republic of China: Amended Final Determination of Sales at Less Than Fair Value, and Antidumping Duty Order, 77 FR 73018 (December 7, 2012) (Order).

The merchandise covered by the Order is crystalline silicon photovoltaic cells, and modules, laminates, and panels, consisting of crystalline silicon photovoltaic cells, whether or not partially or fully assembled into other products, including, but not limited to, modules, laminates, panels and building integrated materials.⁴ Merchandise covered by this order is currently classified under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010 of the Harmonized Tariff Schedule of the United States (HTSUS).⁵ Although the HTSUS subheadings are provided for convenience and customs purposes, our written description of the scope of the Order is dispositive.

⁴ For a complete description of the scope of the Order, see the Issues Decision Memorandum.

⁵ During the POR, solar cells and modules were primarily classified under USHTS subheadings 8541.40.6015 and 8541.40.6025. These two categories were updated to USHTS subheadings 8541.42.0010 and 8541.43.0010 in 2022.

Analysis of Comments Received

We addressed all issues raised in the case and rebuttal briefs filed in this administrative review in the Issues and Decision Memorandum. A list of the issues raised in parties' briefs is included in the appendix to this notice. The Issues and Decision Memorandum is a public document and is on file electronically via Enforcement and Compliance's Antidumping and Countervailing Duty Centralized Electronic Service System (ACCESS). ACCESS is available to registered users at https://access.trade.gov. In addition, the Issues and Decision Memorandum can be accessed directly at https://access.trade.gov/public/FRNoticesListLayout.aspx.

Changes Since the Preliminary Results

Based on our analysis of the comments received, and for the reasons explained in the Issues and Decision Memorandum, we made certain changes to the Preliminary Results. Specifically, we changed (1) the calculations of the weighted-average dumping margins for Chint Solar ⁶ and Shenzhen Glory Industries Co., Ltd. (Shenzhen Glory) (the mandatory respondents), including changing certain surrogate values used in those calculations; (2) granted Shenzhen Sungold Solar Co., Ltd. a separate rate; and (3) updated the dumping margin assigned to the non-individually examined companies that demonstrated their eligibility for a separate rate.

⁶ We have continued to treat the following companies as a single entity: Chint New Energy Technology Co., Ltd. (f/k/a Chint New Energy Technology (Haining) Co., Ltd.); Chint Solar (Hong Kong) Company Limited; Chint Solar (Jiuquan) Co., Ltd.; Chint Solar (Zhejiang) Co., Ltd.; Chint New Energy Technology (Yancheng) Co., Ltd.; Chint Solar (Yancheng) Co., Ltd.; Haining Chint Solar Energy Technology Co., Ltd.; Zhejiang Taiheng New Energy Co., Ltd.; Hangzhou Taifu New Energy Co., Ltd (collectively, Chint Solar).

Final Determination of No Shipments

In the Preliminary Results, Commerce determined that nine companies/company groupings did not export or sell subject merchandise, nor did they have knowledge that their subject merchandise was entered into the United States during the POR.⁷ No parties commented on Commerce's preliminary no shipments determination. For these final results of review, we have continued to determine that these nine companies/company groupings ⁸ did not export or sell subject merchandise, nor did they have knowledge that their subject merchandise was entered into the United States, during the POR.

⁷ See Preliminary Results PDM at 5-6.

⁸ The nine companies/company groupings are: (1) BYD H.K. Co., Ltd.; (2) Canadian Solar International Limited, Canadian Solar Manufacturing (Changshu) Inc., Canadian Solar Manufacturing (Luoyang) Inc., CSI Cells Co., Ltd., CSI Solar Power (China) Inc., CSI-GCL Solar Manufacturing (Yancheng) Co., Ltd. (collectively, Canadian Solar); (3) CSI Modules (Dafeng) Co. Ltd.; (4) JA Solar Co., Ltd.; (5) JingAo Solar Co., Ltd. (JingAo); (6) Risen Energy Co., Ltd., Risen Energy (Changzhou) Co., Ltd., Risen (Wuhai) New Energy Co., Ltd., Zhejiang Twinsel Electronic Technology Co., Ltd., Risen (Luoyang) New Energy Co., Ltd., Jiujiang Shengchao Xinye Technology Co., Ltd., Jiujiang Shengzhao Xinye Trade Co., Ltd., Ruichang Branch, Risen Energy (HongKong) Co., Ltd.; (7) Shanghai BYD Co., Ltd.; (8) Xiamen Yiyusheng Solar Co., Ltd.; and (9) Zhejiang Aiko Solar Energy Technology Co., Ltd.

Separate Rates

We have continued to grant the companies listed in the table in the “Final Results of Review” section below, a separate rate because they demonstrated that they are entitled to separate rate status. We have continued to find that the companies listed in Appendix II have not demonstrated their entitlement to a separate rate because they did not file a separate rate application or certification. Consequently, we are treating the companies listed in Appendix II as part of the China-wide entity. Because no party requested a review of the China-wide entity, the entity is not under review and the entity's rate (i.e., 238.95 percent ⁹) is not subject to change.¹⁰

⁹ The China-wide entity rate was last changed in the first administrative review of this proceeding and has been the applicable rate for the entity in each subsequent review, including the most recently completed review. See Crystalline Silicon Photovoltaic Cells, Whether or Not Assembled Into Modules, from the People's Republic of China: Final Results of Antidumping Duty Administrative Review and Final Determination of No Shipments; 2012-2013, 80 FR 40998, 41002 (July 14, 2015); see also Crystalline Silicon Photovoltaic Cells, Whether or Not Assembled Into Modules, from the People's Republic of China: Final Results of Antidumping Duty Administrative Review and Final Determination of No Shipments; 2019-2020, 87 FR 38379, 38381 (June 28, 2022).

¹⁰ See Antidumping Proceedings: Announcement of Change in Department Practice for Respondent Selection in Antidumping Duty Proceedings and Conditional Review of the Nonmarket Economy Entity in NME Antidumping Duty Proceedings, 78 FR 65963 (November 4, 2013).

Dumping Margins for Separate Rate Companies

The statute and Commerce's regulations do not address what dumping margin to apply to respondents not selected for individual examination when Commerce limits its examination in an administrative review pursuant to section 777A(c)(2) of the Act. Generally, Commerce looks to section 735(c)(5) of the Act, which provides instructions for calculating the all-others rate in an investigation, for guidance when calculating the dumping margin for non-selected respondents that are not individually examined in an administrative review. Section 735(c)(5)(A) of the Act provides that the all-others rate should be calculated by averaging the weighted-average dumping margins calculated for individually-examined respondents, excluding dumping margins that are zero, de minimis, or based entirely on facts available. Because we calculated a dumping margin of zero or de minimis for Shenzhen Glory, and a dumping margin that is not zero, de minimis, or based entirely on facts available for Chint Solar, we assigned the separate rate recipients that we did not individually examine a dumping margin equal to Chint Solar's dumping margin consistent with Commerce's practice and section 735(c)(5)(A) of the Act.

Final Results of Review

We are assigning the following dumping margin to the firms listed below for the period December 1, 2020, through November 30, 2021:1.

Exporter | Weighted- average dumping margin (percent)
Chint New Energy Technology Co., Ltd. (f.k.a. Chint New Energy Technology (Haining) Co., Ltd.);¹¹ Chint Solar (Hong Kong) Company Limited; Chint Solar (Jiuquan) Co., Ltd.; Chint Solar (Zhejiang) Co., Ltd.; Chint New Energy Technology (Yancheng) Co., Ltd.; Chint Solar (Yancheng) Co., Ltd.; Haining Chint Solar Energy Technology Co., Ltd.; Zhejiang Taiheng New Energy Co., Ltd.; Hangzhou Taifu New Energy Co., Ltd | 36.50
Shenzhen Glory Industries Co., Ltd | 0.00
Review-Specific Average Rate Applicable to the Following Companies:
Anji DaSol Solar Energy Science & Technology Co., Ltd | 36.50
BYD (Shangluo) Industrial Co., Ltd | 36.50
JA Solar Technology Yangzhou Co., Ltd | 36.50
Jinko Solar Import and Export Co., Ltd.; Jinko Solar Co., Ltd.; Jinko Solar (Haining) Co., Ltd. (f/k/a Jinko Solar Technology (Haining) Co., Ltd.); Yuhuan Jinko Solar Co., Ltd.; Zhejiang Jinko Solar Co., Ltd.; Jiangsu Jinko Tiansheng Solar Co., Ltd | 36.50
LONGi Solar Technology Co., Ltd | 36.50
Shanghai JA Solar Technology Co., Ltd | 36.50
Shenzhen Sungold Solar Co., Ltd | 36.50
Shenzhen Topray Solar Co., Ltd | 36.50
Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited | 36.50
Trina Solar Co., Ltd.; Trina Solar (Changzhou) Science and Technology Co., Ltd.; Yancheng Trina Guoneng Photovoltaic Technology Co., Ltd.; Changzhou Trina Solar Yabang Energy Co., Ltd.; Turpan Trina Solar Energy Co., Ltd.; Hubei Trina Solar Energy Co., Ltd.; Trina Solar (Hefei) Science and Technology Co., Ltd.; Changzhou Trina Hezhong Photoelectric Co., Ltd | 36.50
Trina Solar (Singapore) Science and Technology Pte. Ltd | 36.50
Trina Solar Energy Development Company Limited | 36.50
Trina Solar Science & Technology (Thailand) Ltd | 36.50
Wuxi Tianran Photovoltaic Co., Ltd | 36.50

Disclosure

Commerce intends to disclose to parties to the proceeding the calculations performed for these final results of review within five days of the date of publication of this notice in the Federal Register in accordance with 19 CFR 351.224(b).

¹¹ Based on our successor-in-interest analysis, we have determined that Chint New Energy Technology Co., Ltd. is the entity formerly known as Chint New Energy Technology (Haining) Co., Ltd. For further information, see Comment 5 of the accompanying Issues Decision Memorandum.

Assessment Rates

Pursuant to section 751(a)(2)(C) of the Act, and 19 CFR 351.212(b)(1), Commerce has determined, and U.S. Customs and Border Protection (CBP) shall assess, antidumping duties on all appropriate entries covered by the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the individually examined respondents whose weighted-average dumping margin is not zero or de minimis, we calculated importer-specific assessment rates in accordance with 19 CFR 351.212(b)(1) ¹² by dividing the total amount of dumping calculated for all reviewed U.S. sales to the importer by the total entered value of the merchandise sold to the importer.¹³ Where either the respondent's ad valorem weighted average dumping margin, or an importer-specific ad valorem assessment rate, is zero or de minimis, Commerce will instruct CBP to liquidate the appropriate entries without regard to antidumping duties.¹⁴

¹² We applied the assessment rate calculation method adopted in Antidumping Proceedings: Calculation of the Weighted-Average Dumping Margin and Assessment Rate in Certain Antidumping Proceedings: Final Modification, 77 FR 8101 (February 14, 2012).

¹³ See 19 CFR 351.212(b)(1).

¹⁴ Id.

Where sales of subject merchandise exported by an individually examined respondent were not reported in the U.S. sales data submitted by the respondent, but the merchandise was entered into the United States during the POR under the CBP case number of the respondent, Commerce will instruct CBP to liquidate any entries of such merchandise at the weighted-average dumping margin for the China-wide entity (i.e., 238.95 percent). Additionally, where Commerce determines that an exporter under review made no shipments of subject merchandise during the POR, Commerce will instruct CBP to liquidate any suspended entries of subject merchandise that entered under that exporter's CBP case number during the POR at the weighted-average dumping margin for the China-wide entity.

The antidumping duty assessment rate for the companies not individually examined in this administrative review that qualified for a separate rate, will be equal to the weighted-average dumping margin listed for the company in the table above.

For companies not eligible for a separate rate which Commerce considered to be part of the China-wide entity, the assessment rate will be equal to the weighted-average dumping margin for the China-wide entity, i.e., 238.95 percent.

Cash Deposit Requirements

The following cash deposit requirements will be effective for shipments of the subject merchandise entered, or withdrawn from warehouse, for consumption on, or after, the date of publication of this notice in the Federal Register, as provided for by section 751(a)(2)(C) of the Act: (1) for the companies listed in the table above, the cash deposit rate will be equal to the weighted-average dumping margin listed for the company in the table; (2) for a previously investigated or reviewed exporter of subject merchandise not listed in the table above that has a separate rate, the cash deposit rate will continue to be the exporter's existing cash deposit rate; (3) for all China exporters of subject merchandise that do not have a separate rate, the cash deposit rate will be equal to the weighted-average dumping margin assigned to the China-wide entity, which is 238.95 percent; and (4) for a non-China exporter of subject merchandise that does not have a separate rate, the cash deposit rate will be equal to the weighted-average dumping margin applicable to the China exporter that supplied that non-China exporter.

These cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant POR entries. Failure to comply with this requirement could result in Commerce's presumption that reimbursement of antidumping and/or countervailing duties occurred and the subsequent assessment of doubled antidumping duties, and/or an increase in the amount of antidumping duties by the amount of the countervailing duties.

Administrative Protective Order (APO)

This notice also serves as a reminder to parties subject to an APO of their responsibility concerning the return or destruction of proprietary information disclosed under an APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act and 19 CFR 351.213(h)(2) and 19 CFR 351.221(b)(5).

Dated: June 30, 2023.
Lisa W. Wang,
Assistant Secretary for Enforcement and Compliance.

Appendix I

List of Topics Discussed in the Issues and Decision Memorandum

I. Summary

II. Background

III. Scope of the Order

IV. Changes Since the Preliminary Results

V. Discussion of the Issues

Comment 1: Whether to Grant Shenzhen Sungold Separate Rate Status

Comment 2: Whether to Assess Duties on Canadian Solar's Entries at the China-

Wide Rate

Comment 3: The Appropriate Surrogate Value (SV) for Labor

Comment 4: Whether Commerce Incorrectly Included Rental Expenses as Factory Overhead

Comment 5: The Correct Name of a Company in the Collapsed Chint Solar Entity

Comment 6: The Appropriate SV for Anti-Reflective Glass

Comment 7: The Appropriate SV for Junction Boxes

Comment 8: The Appropriate SV for Silver Paste

Comment 9: Whether to Deduct a Service Fee Related to Movement Expenses from U.S. Prices

Comment 10: The Appropriate SV for Ethylene Vinyl Acetate (EVA) Input

Comment 11: The Appropriate SV for Packing Strap

Comment 12: Whether Commerce Incorrectly Deducted 301 Duties

Comment 13: The Appropriate SV for Shenzhen Glory's Baseboard Input

VI. Recommendation

Appendix II

Companies Determined To Be Part of the China-Wide Entity

1. De-Tech Trading Limited HK

2. Fuzhou Sunmodo New Energy Equipment

3. Hengdian Group DMEGC Magnetics Co. Ltd.

4. Jiawei Solarchina (Shenzhen) Co., Ltd.

5. Jiawei Solarchina Co., Ltd.

6. Jinko Solar International Limited

7. Lightway Green New Energy Co., Ltd.

8. Longi (HK) Trading Ltd.

9. Ningbo ETDZ Holdings, Ltd.

10. Ningbo Qixin Solar Electrical Appliance Co., Ltd.

11. Renesola Jiangsu Ltd.

12. ReneSola Zhejiang Ltd.

13. Sumec Hardware & Tools Co., Ltd.

14. Suntech Power Co., Ltd.

15. Taizhou BD Trade Co., Ltd.

16. tenKsolar (Shanghai) Co., Ltd

17. Wuxi Suntech Power Co., Ltd.; Luoyang Suntech Power Co., Ltd.

18. Yingli Green Energy International Trading Company Limited

[FR Doc. 2023-14428 Filed 7-6-23; 8:45 am]

BILLING CODE 3510-DS-P